DEPARTMENT OF COMMERCE

International Trade Administration

University of Maryland, et al.

Notice of Consolidated Decision on Applications for Duty-Free Entry of Scientific Instruments

This is a decision pursuant to Section 6(c) of the Educational, Scientific, and Cultural Materials Importation Act of 1966 (Pub. L. 89-651, as amended by Pub. .106-36; 80 Stat. 897; 15 CFR part 301). Related records can be viewed between 8:30 A.M. and 5:00 P.M. in Room 2104, U.S. Department of Commerce, 14th and Constitution Ave, NW, Washington, D.C.

Comments: None received. Decision: Approved. We know of no instruments of equivalent scientific value to the foreign instruments described below, for such purposes as each is intended to be used, that was being manufactured in the United States at the time of its order.

Docket Number: 08-032. Applicant: University of Maryland, Institute for Research in Electronics and Applied Physics, College Park, MD 20742. Instrument: Atomic Layer Deposition System. Manufacturer: Beneq Oy, Finland. Intended Use: See notice at 73 FR 45209, August 4, 2008. Reasons: This instrument is able to accommodate a variety of substrates of dissimilar sizes and shapes, including medical implants and flexible integrated circuits. The instrument also is able to accommodate 3-D samples and has a minimum of six sources per reactor. These features are required for the research.

Docket Number: 08-036. Applicant: University of Maryland, College Park, MD 20742. Instrument: Low Temperature Near Field Confocal Optical Microscope. Manufacturer: Nanonics Imaging Ltd, Israel. Intended Use: See notice at 73 FR 45209, August 4, 2008. Reasons: The instrument has the following features which are essential in performing the research: simultaneous NSOM/AFM/Confocal imaging, normal force sensing open system architecture (transmission, reflection and collection modes), temperature continuously adjustable from 8K to 300K, 5x10-8 Torr high vacuum capability, large scanning range (50µm in the Z direction), fine NSOM spatial resolution (~50nm), multi-probe capability for independent pump probe measurement control, fast temporal resolution (~300fs).

Docket Number: 08-038. Applicant: Washington State University, Pullman, Washington 99164-7040. Instrument: Piezoelectric Microarray Spotter. Manufacturer: Scienion AG, Germany. Intended Use: See notice at 73 FR 45209, August 4, 2008. Reasons: The instrument has a unique feature which is a non-contact spotter to avoid interference from dust and sensitivity to shifts in relative humidity. Another essential feature is that the instrument is able to be used as a liquid handling robot.

Docket Number: 08-039. Applicant: University of Michigan-Dearborn, Dearborn, MI 48128. Instrument: X-Ray Computer Tomography System. Manufacturer: Phoenix X-Ray Inc., Germany. Intended Use: See notice at 73 FR 45209, August 4, 2008. Reasons: The instrument has an X-ray tube power high enough to penetrate metal alloy specimens which is required for the research. It also has a relatively high resolution which is also essential to the research.

Dated: August 13, 2008.
Faye Robinson,
Director, Statutory Import Programs Staff, Import Administration.

[FR Doc. E8-19172 Filed 8-18-08; 8:45 am]

BILLING CODE 3510-DS-S